DEPARTMENT OF THE INTERIOR

Bureau of Land Management

[LLWO3200000-L19900000.PP0000]

Revision of Approved Information Collection

AGENCY: Bureau of Land Management, Interior.

ACTION: 30-day notice and request for comments.

SUMMARY: The Bureau of Land Management (BLM) has submitted an information collection request to the Office of Management and Budget (OMB) to revise the collection of information from mining claimants who seek a waiver from annual maintenance fees. This information collection activity is part of a collection that the Office of Management and Budget (OMB) has previously approved under the control number 1004-0114.

DATES: The OMB is required to respond to this information collection request within 60 days but may respond after 30 days. For maximum consideration, written comments should be received on or before August 16, 2012.

ADDRESSES: Please submit comments directly to the Desk Officer for the Department of the Interior (OMB #1004-0114), Office of Management and Budget, Office of Information and Regulatory Affairs, fax 202-395-5806, or by electronic mail at oira_docket@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0114” regardless of the form of your comments.

FOR FURTHER INFORMATION CONTACT: Sonia Santillan, at 202-912-7123. Persons who use a telecommunication device for the deaf (TDD) may call the Federal Information Relay Service (FIRS) at 1-800-877-8339, to leave a message for Ms. Santillan. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on May 20, 2011 (76 FR 26263), and the comment period ended July 19, 2011. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0114 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Recordation of Location Notices and Mining Claims; Payment of Fees.

Form: Form No. 3830-4, Affidavit of Annual Assessment Work.

OMB Control Number: 1004-0114.

Abstract: The Bureau of Land Management (BLM) requests revision of control number 1004-0114 for proposed Form 3830-4, Affidavit of Annual Assessment Work. The proposed form would be part of the currently approved collection activity titled “Annual FLPMA Documents,” and would not change the requirements or the estimated burdens, except for updates of the number of responses and associated hour burdens. The burdens shown below are only for the activity titled, “Annual FLPMA Documents.”

Frequency: Annually.

Estimated Number and Description of Respondents Annually: 6,316 mining claimants who seek a waiver from annual maintenance fees.

Estimated Reporting and Recordkeeping “Hour” Burden Annually: 3,158 hours.

Estimated Reporting and Recordkeeping “Non-Hour Cost” Burden Annually: $63,160.

Jean Sonneman,
Information Collection Clearance Officer, Bureau of Land Management.

[FR Doc. 2012-17384 Filed 7-16-12; 8:45 am]

BILLING CODE 4310-84-P